DEPARTMENT OF THE INTERIOR

National Park Service

[NPS-PWR-PWRO-17572; PX.P0073969J.00.1]

Record of Decision for General Management Plan, Golden Gate National Recreation Area, California

AGENCY: National Park Service, Interior.

ACTION: Notice of availability.

SUMMARY: The National Park Service, has prepared and approved a Record of Decision for the Final Environmental Impact Statement for the new General Management Plan (GMP) for Golden Gate National Recreation Area. Approval of the GMP concludes a very extensive public engagement and conservation planning and environmental impact analysis effort that began during 2006. The requisite no-action “wait period” was initiated on April 25, 2014, with the Environmental Protection Agency's Federal Register announcement of the filing and release of the Final EIS.

ADDRESSES: Those wishing to review the Record of Decision for the GMP may obtain a copy by contacting the General Superintendent, Golden Gate National Recreation Area, Building 201, Fort Mason, San Francisco, CA 94123, or via telephone request at (415) 561-4930.

FOR FURTHER INFORMATION CONTACT: Brian Aviles, Senior Planner, Golden Gate National Recreation Area, (415) 561-4942.

SUPPLEMENTARY INFORMATION: The National Park Service (NPS) has approved the Record of Decision for the GMP/Final Environmental Impact Statement which will guide management of park lands within Golden Gate National Recreation Area (GGNRA) over the next 20 years. Following establishment in 1972, the GGNRA has been operating under a 1980 GMP. Since then GGNRA has doubled in size and visitation now approaches 16 million annually.

The NPS has selected Alternative 1 Connecting People With Parks for implementation on park lands in Marin, San Francisco, and San Mateo Counties. Park management will focus on ways to attract and welcome people; connect visitors with the resources; and promote enjoyment, understanding, preservation, and health for diverse populations now and in the future. To achieve these objectives, management zones will be applied in all areas, enhancements will be made to park programs, and a number of projects will be carried out to preserve, restore, and/or improve cultural and natural resources as well as park facilities and infrastructure.

The NPS has selected Alternative 3 Focusing on National Treasures for implementation at Alcatraz Island and Muir Woods National Monument. Park management will showcase nationally important cultural and natural resources at each site. These fundamental resources will be managed at the highest level of preservation to protect the resources in perpetuity and to promote appreciation, understanding, and enjoyment of those resources—all other resources will be managed to complement the nationally significant resources and the associated visitor experience.

Four alternatives, including a no-action alternative, were described and evaluated in the Final Environmental Impact Statement, the full range of foreseeable environmental consequences was assessed, and appropriate mitigation measures were identified. The selected alternatives were determined to be the “environmentally preferred” course of action.

Dated: January 30, 2015.
Christine S. Lehnertz,
Regional Director, Pacific West Region.

[FR Doc. 2015-12376 Filed 5-20-15; 8:45 am]

BILLING CODE 4312-FF-P